DEPARTMENT OF ENERGY

Federal Energy Regulatory Commission

[Docket No. RM99-2-000]

Regional Transmission Organizations; Notice of Dates and Locations for Regional Collaborative Workshops

January 31, 2000.

On December 20, 1999, the Commission issued Order No. 2000 ¹ to advance the formation of Regional Transmission Organizations (RTOs). Order No. 2000 announced the initiation of a regional collaborative process ² to aid in the formation of RTOs. To initiate the collaborative process, the Commission is organizing a series of regional workshops. The following five locations are designated for the Spring 2000 workshops and, as stated in order No. 2000, “* * * the selection of locations for initial workshops is not to indicate a preference for specific RTO boundaries, but to provide convenient workshop locations.” ³ The workshops are open to all interested parties and attendance at more than one workshop is permitted. The Commission expects that all transmission owners will attend at least one workshop.

¹ 65 FR 809 (January 6, 2000).

² Id. at 942-43.

³ Id. at 943.

The dates and locations for the Spring 2000 regional workshops are as follows:

March 1-2, 2000 in Cincinnati, OH

March 15-16, 2000 in Philadelphia, PA

March 23-24, 2000 in Las Vegas, NV

March 29-30, 2000 in Kansas City, MO

April 5-6, 2000 in Atlanta, GA

Agendas, procedural rules and specific meeting locations will be provided in advance of the workshops on the Commission's website (http://www.ferc.fed.us/). The Commission contact person for these workshops is James Apperson, (202) 219-2962.

David P. Boergers,
Secretary.

[FR Doc. 00-2488 Filed 2-3-00; 8:45 am]

BILLING CODE 6717-01-M